DEPARTMENT OF TRANSPORTATION

Federal Aviation Administration

14 CFR Part 91

[Docket No. FAA-2001-10047; Amdt. No. 91-322]

RIN 2120-AH06

Regulation of Fractional Aircraft Ownership Programs and On-Demand Operations; Technical Amendment

AGENCY: Federal Aviation Administration, DOT.

ACTION: Final rule; technical amendment.

SUMMARY: The FAA is amending its regulations governing operations of aircraft in fractional ownership programs. This document corrects a technical error in the codified text of the regulations.

DATES: Effective June 2, 2011.

FOR FURTHER INFORMATION CONTACT: For technical questions concerning this action, contact Everette Rochon, General Aviation and Commercial Division, AFS-800, Federal Aviation Administration, 800 Independence Avenue, SW., Washington, DC 20591; telephone: 202-267-7413; e-mail: everette.rochon@faa.gov.

SUPPLEMENTARY INFORMATION:

Background

On September 17, 2003, the FAA published a final rule entitled, “Regulation of Fractional Aircraft Ownership Programs and On-Demand Operations” (68 FR 54520).

In that final rule the FAA updated and revised the regulations governing operations of aircraft in fractional ownership programs.

Technical Amendment

This technical amendment makes one revision to the final rule. The language in § 91.1091(f)(2) incorrectly uses the term “check pilot” when the term “flight instructor” should have been used. Accordingly, this amendment revises § 91.1091(f)(2).

Because the section title applies to flight instructors it is obvious that the use of the term “check pilot” in (f)(2) should have been “flight instructor”. This technical amendment corrects an incorrect term and we find good cause exists under 5 U.S.C. 553(d)(3) to make the amendment effective in less than 30 days.

List of Subjects in 14 CFR Part 91

Afghanistan, Agriculture, Air traffic control, Aircraft, Airmen, Airports, Aviation safety, Canada, Cuba, Ethiopia, Freight, Mexico, Noise control, Political candidates, Reporting and recordkeeping requirements, and Yugoslavia.

The Amendment

In consideration of the foregoing, the Federal Aviation Administration amends chapter I of title 14, Code of Federal Regulations as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

2. Amend § 91.1091 by revising paragraph (f)(2) to read as follows:

§ 91.1091 Qualifications: Flight instructors (aircraft) and flight instructors (simulator).

* * * * *

(f) * * *

(2) Satisfactorily complete an approved line-observation program within the period prescribed by that program preceding the performance of any flight instructor duty in a flight simulator.

* * * * *

Issued in Washington, DC on May 26, 2011.
Dennis R. Pratte,
Acting Director, Office of Rulemaking.

[FR Doc. 2011-13675 Filed 6-1-11; 8:45 am]

BILLING CODE 4910-13-P